ENVIRONMENTAL PROTECTION AGENCY

[Regional Docket Nos. II-2002-09, II-2003 -01, II-2003 -02; FRL-7887-8]

Clean Air Act Operating Permit Program; Petitions for Objection to State Operating Permits for Bristol-Myers Squibb Co. Inc.; Eastman Kodak Co., Kodak Park Facility; and Eastman Kodak Co., Kodak Power and Steam Generation Plant

AGENCY: Environmental Protection Agency (EPA).

ACTION: Notice of final orders, addressing three State operating permits.

SUMMARY: This document announces that the EPA Administrator has addressed three citizen petitions asking EPA to object to operating permits issued to three facilities by the New York State Department of Environmental Conservation (NYSDEC). Specifically, the Administrator has partially granted and partially denied three petitions submitted by the New York Public Interest Research Group (NYPIRG) to object to the state operating permits issued to Bristol-Myers Squibb Co. Inc., Eastman Kodak Co., Kodak Park Facility, and Eastman Kodak Co., Kodak Power and Steam Generation Plant. Pursuant to section 505(b)(2) of the Clean Air Act (Act), petitioner may seek judicial review of those portions of the petitions which EPA denied in the United States Court of Appeals for the appropriate circuit. Any petition for review shall be filed within 60 days from the date this notice appears in the Federal Register, pursuant to section 307 of the Act.

ADDRESSES: You may review copies of the final orders, the petitions, and other supporting information at the EPA Region 2 Office, 290 Broadway, New York, New York 10007-1866. If you wish to examine these documents, you should make an appointment at least 24 hours before visiting day. Additionally, the final orders are available electronically at: http://www.epa.gov/region07/programs/artd/air/title5/petitiondb/petitiondb.htm.

FOR FURTHER INFORMATION CONTACT: Steven Riva, Chief, Permitting Section, Air Programs Branch, Division of Environmental Planning and Protection, EPA Region 2, 290 Broadway, 25th Floor, New York, New York 10007-1866, telephone (212) 637-4074.

SUPPLEMENTARY INFORMATION: The Act affords EPA a 45-day period to review, and object to as appropriate, operating permits proposed by state permitting authorities. Section 505(b)(2) of the Act authorizes any person to petition the EPA Administrator within 60 days after the expiration of this review period to object to state operating permits if EPA has not done so. Petitions must be based only on objections to the permit that were raised with reasonable specificity during the public comment period provided by the state, unless the petitioner demonstrates that it was impracticable to raise such issues during the comment period or the grounds for the issues arose after this period.

I. Bristol-Myers Squibb

On September 12, 2002, the EPA received a petition from NYPIRG, requesting that EPA object to the issuance of the title V operating permit for Bristol-Myers Squibb Co., Inc. (BMS). On February 18, 2005, the Administrator issued an order partially granting and partially denying the BMS petition. The order explains the reasons behind EPA's conclusion that the NYSDEC must: (1) Explain in the statement of basis the scope of the Operational Flexibility Plan and the part 70 provisions it implements; re-open the permit to ensure that conditions 6, 7, and 8 are consistent with the requirements of part 70 and NYSDEC's approved title V program; and revise the permit to clarify that changes made at the BMS facility pursuant to the Operational Flexibility Plan shall not be eligible for the permit shield; (2) revise the “general permittee obligations” section of the permit relative to the annual compliance certification requirements; and (3) add appropriate periodic monitoring in certain permit conditions. The order also explains EPA's reasons for denying NYPIRG's remaining claims.

II. Kodak Park

On April 1, 2003, the EPA received a petition from NYPIRG, requesting that EPA object to the issuance of the title V operating permit for the Eastman Kodak Co., Kodak Park Facility. On February 18, 2005, the Administrator issued an order partially granting and partially denying the Kodak Park petition. The order explains the reasons behind EPA's conclusion that the NYSDEC must: (1) Explain in the statement of basis the scope of the Operational Flexibility Plan and the part 70 provisions it implements; re-open the permit to ensure that condition 8 is consistent with the requirements of part 70 and NYSDEC's approved title V program; and revise the permit to clarify that changes made at the Kodak facility pursuant to the Operational Flexibility Plan shall not be eligible for the permit shield; (2) revise the “general permittee obligations” section of the permit relative to the annual compliance certification requirements; (3) add appropriate periodic monitoring in certain permit conditions; and (4) move the sulfur dioxide provisions of 6 NYCRR 212.4(a) for U-00063 to the federal/state side of the permit. The order also explains EPA's reasons for denying NYPIRG's remaining claims.

III. Kodak Power

On April 1, 2003, the EPA received a petition from NYPIRG, requesting that EPA object to the issuance of the title V operating permit for the Eastman Kodak Co., Kodak Power and Steam Generation Plant. On February 18, 2005, the Administrator issued an order partially granting and partially denying the Kodak Power petition. The order explains the reasons behind EPA's conclusion that the NYSDEC must reopen the permit to: (1) Explain in the statement of basis the scope of the Operational Flexibility Plan and the part 70 provisions it implements; re-open the permit to ensure that condition 8 is consistent with the requirements of part 70 and NYSDEC's approved title V program; and revise the permit to clarify that changes made at the Kodak facility pursuant to the Operational Flexibility Plan shall not be eligible for the permit shield; and (2) revise the “general permittee obligations” section of the permit relative to the annual compliance certification requirements. The order also explains EPA's reasons for denying NYPIRG's remaining claims.

Dated: March 10, 2005.
George Pavlou,
Acting Deputy Regional Administrator, Region 2.

[FR Doc. 05-5615 Filed 3-21-05; 8:45 am]

BILLING CODE 6560-50-P